DEPARTMENT OF LABOR

Employment and Training Administration

[TA-W-74,813; TA-W-74,813A]

Eastman Kodak Company, Electrographic Print Solutions, Including On-Site Leased Workers From Adecco and Datrose, Spencerport, New York; Eastman Kodak Company, IPS, Including On-Site Leased Workers From Adecco, Dayton, Ohio; Notice of Initiation of Investigation To Terminate Certification of Eligibility

Pursuant to Section 221 of the Trade Act of 1974, as amended, an investigation was initiated in response to a petition for Trade Adjustment Assistance (TAA) filed on behalf of Eastman Kodak Company, Electrographic Print Solutions, Spencerport, New York (EKC-NY). On February 18, 2011, the Department issued a certification of eligibility to apply for TAA applicable to workers and former workers of EKC-NY. On March 19, 2013, the Department issued an amended certification of eligibility to apply for TAA applicable to workers and former workers of Eastman Kodak Company, IPS, Dayton, Ohio (EKC-OH). A corrected amended certification of eligibility to apply for TAA applicable to workers and former workers of EKC-NY and EKC-OH was issued on April 4, 2013.

A review of the determination and the administrative record, however, revealed that the amended certification was erroneously issued. Specifically, the Department misunderstood the various and distinct articles produced at EKC-NY and EKC-OH.

The Department will conduct an investigation to determine whether or not workers of Eastman Kodak Company, IPS, including on-site leased workers, Dayton, Ohio (TA-W-74,813A), have met the criteria set forth in Section 222(a) or (b) of the Trade Act of 1974, as amended, and will issue determinations accordingly.

Signed in Washington, DC, this 25th day of April 2013.
Del Min Amy Chen,
Certifying Officer, Office of Trade Adjustment Assistance.

[FR Doc. 2013-11470 Filed 5-14-13; 8:45 am]

BILLING CODE 4510-FN-P